DEPARTMENT OF TRANSPORTATION

Federal Aviation Administration

14 CFR Part 39

[Docket No. 2000-NM-114-AD]

RIN 2120-AA64

Airworthiness Directives; Airbus Model A310 and A300-600 Series Airplanes

AGENCY: Federal Aviation Administration, DOT.

ACTION: Notice of proposed rulemaking (NPRM).

SUMMARY: This document proposes the adoption of a new airworthiness directive (AD) that is applicable to certain Airbus Model A310 and A300-600 series airplanes. This proposal would require replacement of the flight control computers (FCC) with new, improved FCC's having updated software installed. This proposal also would require, for some airplanes, modification of the wiring of the FCC's. This action is necessary to prevent autopilot reversions in certain flight conditions, which could result in misunderstanding by the flight crew and consequent reduced ability to take appropriate action. This action is intended to address the identified unsafe condition.

DATES: Comments must be received by September 25, 2000.

ADDRESSES: Submit comments in triplicate to the Federal Aviation Administration (FAA), Transport Airplane Directorate, ANM-114, Attention: Rules Docket No. 2000-NM-114-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-114-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-114-AD.” The postcard will be date stamped and returned to the commenter.

Availability of NPRMs

Any person may obtain a copy of this NPRM by submitting a request to the FAA, Transport Airplane Directorate, ANM-114, Attention: Rules Docket No. 2000-NM-114-AD, 1601 Lind Avenue, SW., Renton, Washington 98055-4056.

Discussion

The Direction Générale de l'Aviation Civile (DGAC), which is the airworthiness authority for France, notified the FAA that an unsafe condition may exist on certain Airbus Model A310 and A300-600 series airplanes. The existing design of the automatic flight system allows for automatic reversion to “SPD” (MACH) mode in certain flight phases when the airplane speed is not maintainable. The DGAC advises that, in some cases, flight crews may not immediately understand these reversions. For example, on approach, a reversion from “V/S descent” to “SPD climb” could occur in certain flight conditions, and result in the airplane climbing instead of descending. Such reversions, if not corrected, could result in misunderstanding by the flight crew and consequent reduced ability to take appropriate action.

Explanation of Relevant Service Information

The manufacturer has issued Airbus Service Bulletins A310-22-2048, Revision 01, and A310-22-2049, Revision 02, each dated March 6, 2000 (for Airbus Model A310 series airplanes) and A300-22-6038, dated August 24, 1999 (for Airbus Model A300-600 series airplanes). These service bulletins describe procedures for replacement of the flight control computers (FCC) with new, improved FCC's having updated software installed. The new software includes a number of design improvements to the automatic flight system, including changes to remove the automatic reversions.

The manufacturer also has issued Airbus Service Bulletins A310-22-2051, Revision 02, dated March 8, 2000 (for Airbus Model A310 series airplanes) and A300-22-6040, Revision 02, dated March 6, 2000 (for Airbus Model A300-600 series airplanes). These service bulletins describe procedures for modifying the wiring in the left-hand electronics rack 80VU to allow the new FCC's to distinguish between an Airbus Model A310 and an Airbus Model A300-600 series airplane.

Accomplishment of the actions specified in the Airbus service bulletins is intended to adequately address the identified unsafe condition. The DGAC classified these service bulletins as mandatory and issued French airworthiness directive 2000-137-305(B), dated March 22, 2000, in order to assure the continued airworthiness of these airplanes in France.

The Airbus service bulletins reference SEXTANT Service Bulletins B350AAM-22-008, B470AAM-22-013, and B470ABM-22-012, each dated September 29, 1999, as additional sources of service information for accomplishing the replacement proposed by this AD.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously.

Cost Impact

The FAA estimates that 116 airplanes of U.S. registry would be affected by this proposed AD.

It would take as much as 17 work hours per airplane to accomplish the proposed replacements, at an average labor rate of $60 per work hour. Required parts would cost as much as $5,064 per airplane. Based on these figures, the cost impact of the proposed replacements on U.S. operators is estimated to be as much as $705,744, or $6,084 per airplane.

It would take approximately 1 work hour per airplane to accomplish the proposed modification of the wiring, at an average labor rate of $60 per work hour. Based on these figures, the cost impact of the proposed modification on U.S. operators is estimated to be $6,960, or $60 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2000-NM-114-AD.

Applicability: Model A310 series airplanes equipped with flight control computers (FCC) having part number (P/N) B350AAM4 or B470ABM2, and Model A300-600 series airplanes equipped with FCC's having P/N B470AAM2; certificated in any category; except those airplanes on which Airbus Modification 11899 or 11900 (Airbus Service Bulletin A310-22-2048 or A310-22-2049 or A300-22-6038) has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent autopilot reversions in certain flight conditions, which could result in misunderstanding by the flight crew and consequent reduced ability to take appropriate action, accomplish the following:

Replacement of FCC's and Modification of Wiring

(a) Within 26 months after the effective date of this AD, replace the FCC's with new, improved FCC's having updated software installed; and modify the wiring, as applicable; in accordance with paragraph (a)(1), (a)(2), or (a)(3), as applicable.

(1) For Airbus Model A310 series airplanes equipped with FCC's having P/N B350AAM4: Replace the FCC's in accordance with Airbus Service Bulletin A310-22-2048, Revision 01, dated March 6, 2000.

(2) For Airbus Model A310 series airplanes equipped with FCC's having P/N B470ABM2: Replace the FCC's in accordance with Airbus Service Bulletin A310-22-2049, Revision 02, dated March 6, 2000. Prior to or concurrent with the replacement, modify the wiring in accordance with Airbus Service Bulletin A310-22-2051, Revision 02, dated March 8, 2000.

(3) For Airbus Model A300-600 series airplanes equipped with FCC's having P/N B470AAM2: Replace the FCC's in accordance with Airbus Service Bulletin A300-22-6038, dated August 24, 1999. Prior to or concurrent with the replacement, modify the wiring in accordance with Airbus Service Bulletin A300-22-6040, Revision 02, dated March 6, 2000.

Note 2: Accomplishment of the actions required by paragraph (a) of this AD prior to the effective date of this AD in accordance with Airbus Service BulletinA310-22-2048, dated December 13, 1999; A310-22-2049, dated August 24, 1999, or Revision 01, dated December 13, 1999; A310-22-2051, dated August 26, 1999, or Revision 01, dated December 13, 1999; or A300-22-6040, dated August 26, 1999, or Revision 01, dated December 13, 1999; is acceptable for compliance with the applicable actions specified in that paragraph.

Note 3: The Airbus service bulletins reference SEXTANT Service Bulletins B350AAM-22-008, B470AAM-22-013, and B470ABM-22-012, each dated September 29, 1999, as additional sources of service information for accomplishing the replacement required by this AD.

Alternative Methods of Compliance

(b) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(c) Special flight permits may be issued in accordance with §§ 21.197 and 21.199 of the Federal Aviation Regulations (14 CFR 21.197 and 21.199) to operate the airplane to a location where the requirements of this AD can be accomplished.

Note 5: The subject of this AD is addressed in French airworthiness directive 2000-137-305(B), dated March 22, 2000.

Issued in Renton, Washington, on August 21, 2000.
Donald L. Riggin,
Acting Manager, Transport Airplane Directorate, Aircraft Certification Service.

[FR Doc. 00-21716 Filed 8-24-00; 8:45 am]

BILLING CODE 4910-13-U